DEPARTMENT OF HEALTH AND HUMAN SERVICES

Administration for Children and Families

Submission for OMB Review; Comment Request

Title: Tracking of Participants in the Early Head Start Research and Evaluation Project.

OMB No.: New Collection.

Billing Accounting Code (BAC): 418422 (G994426).

Description: The Administration for Children and Families (ACE) within the Department of Health and Human Services (HHS) will conduct tracking of children/families who participated in the Early Head Start Research and Evaluation Project (EHSREP). The purpose of tracking these participants is to maintain up-to-date contact information for the children/families in the event that the Administration for Children and Families (ACE) determines that a future follow-up to the EHSREP will take place.

The EHSREP is a longitudinal study originally designed to meet 1994 requirement for a national evaluation of the Early Head Start program. 3001 children and families in 17 sites were randomly assigned either to the program group (allowed to enroll in EHS), or to the control group (precluded from enrolling in EHS, although they could receive other services in the community). Child and family assessments were conducted when children were 14 months old, 24 months old, 36 months old, in the spring prior to kindergarten entry, and again in the spring of the sixth year of formal schooling (5th grade for most children).

If the decision is made to follow the sample through high school, it is important to maintain contact with the participants so that response rates at follow-up points will be maximized. Telephone interviews will be conducted in order to update the respondent's location and contact information. This information will be collected from parents or guardians in the spring of 2011.

Respondents: Treatment and control group members in the Early Head Start Research and Evaluation Project.

Annual Burden Estimates
Instrument | Annual number of respondents | Number of responses per respondent | Average burden hours per response | Total annual burden hours
Tracking Interview | 2700 | 1 | .25 | 675
3rd Party Contacts | 200 | 1 | .05 | 10

Estimated Total Annual Burden Hours: 685.

Additional Information

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment

OMB is required to make a decision concerning the collection of information between 30 and 60 days after publication of this document in the Federal Register.

Therefore, a comment is best assured of having its full effect if OMB receives it within 30 days of publication.

Written comments and recommendations for the proposed information collection should be sent directly to the following: Office of Management and Budget, Paperwork Reduction Project. Fax: 202-395-6974. Attn: Desk Officer for the Administration for Children and Families.

Dated: January 4, 2011.
Steven M. Hanmer,
OPRE Reports Clearance Officer.

[FR Doc. 2011-207 Filed 1-7-11; 8:45 am]

BILLING CODE 4184-01-M